DEPARTMENT OF THE INTERIOR

Fish and Wildlife Service

[FWS-HQ-R-2016-N175; FXRS126109HD000-167-FF09R23000]

Proposed Information Collection; Programmatic Clearance for U.S. Fish and Wildlife Service Social Science Research

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by December 12, 2016.

ADDRESSES: Send your comments on the IC to the Information Collection Clearance Officer, U.S. Fish and Wildlife Service, MS BPHC, 5275 Leesburg Pike, Falls Church, VA 22041-3803 (mail); or tina_campbell@fws.gov (email). Please include “1018-SS Programmatic” in the subject line of your comments.

FOR FURTHER INFORMATION CONTACT: To request additional information about this IC, contact Tina Campbell at tina_campbell@fws.gov (email) or 703-358-2676 (telephone).

SUPPLEMENTARY INFORMATION:

I. Abstract

The programmatic clearance applies to social science surveys, interviews, and focus groups designed to provide information to Service managers and practitioners to improve quality and utility of agency programs, services, and planning efforts. Data from collections undertaken through the proposed programmatic clearance would provide information for agency management, planning, and monitoring and evaluating the National Wildlife Refuge System (Refuge System) efforts generally and the Urban Wildlife Conservation Program specifically, as well as efforts of other Service programs. To ensure continuous improvement, Service activities and projects require ongoing systematic assessment of their design, implementation, and outcomes. The scope of this programmatic clearance includes individual surveys, focus groups, and interviews of refuge visitors, potential visitors, and residents of communities near Service-managed units, and stakeholders and partners, including tribal interests. We estimate that we will receive 20,333 responses to surveys at 20 minutes per survey; 833 responses to telephone surveys at 25 minutes per survey; 784 nonresponses at 5 minutes per survey; and 59 responses from focus groups at 1 hour per focus group annually.

Questions asked under the programmatic clearance must show a clear tie to Service management needs. The programmatic review may only be used for noncontroversial information collections that are unlikely to attract or include topics of significant public interest. OMB must approve all collections before we can collect the information.

II. Data

OMB Control Number: 1018-XXXX.

Title: Programmatic Clearance for U.S. Fish and Wildlife Service Social Science Research.

Service Form Number: None.

Type of Request: Request for a new OMB control number.

Description of Respondents: Persons visiting units managed by the Service; potential visitors, including “virtual visitors” who access content from a Service Web site; local community members; educators taking part in programs both on and off Service lands; government officials representing the local area, landowners, partners, stakeholders, and tribal interests.

Respondent's Obligation: Voluntary.

Frequency of Collection: On occasion.

Estimated Number of Annual Responses: 22,009.

Estimated Completion Time per Response: Varies from 5 minutes to 1 hour.

Estimated Annual Burden Hours: 7,249.

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: October 5, 2016.
Tina A. Campbell,
Chief, Division of Policy, Performance, and Management Programs, U.S. Fish and Wildlife Service.

[FR Doc. 2016-24567 Filed 10-11-16; 8:45 am]

BILLING CODE 4333-15-P